DEPARTMENT OF THE INTERIOR

Bureau of Land Management

[NV-930-1430-ET; NVN-66363]

Public Land Order No. 7491; Withdrawal of Public Lands and Minerals in Washoe County, NV

AGENCY: Bureau of Land Management, Interior.

ACTION: Public land order.

SUMMARY: This order withdraws 167,137.69 acres of public lands from surface entry and mining, but not from sales, exchanges, or recreation and public purposes for a 20-year period. This order would also withdraw 15,813.12 acres of reserved Federal mineral interest from mining. The purpose of the withdrawal is for the protection of open space values of public lands. The lands have been and will remain open to mineral leasing and mineral material sales.

EFFECTIVE DATE: July 5, 2001.

FOR FURTHER INFORMATION CONTACT: Dennis Samuelson, BLM Nevada State Office, P.O. Box 12000, Reno, Nevada 89520, 775-861-6532.

SUPPLEMENTARY INFORMATION: By virtue of the authority vested in the Secretary of the Interior by Section 204 of the Federal Land Policy and Management Act of 1976, 43 U.S.C. 1714 (1994), it is ordered as follows:

1. Subject to valid existing rights, the following described public lands are hereby withdrawn from settlement, location, or entry under the general land laws, including the United States mining laws (30 U.S.C. Ch. 2 (1994)), but not from sales and exchanges under Sections 203 and 206 of the Federal Land Policy and Management Act, as amended, conveyances under the Recreation and Public Purposes Act, as amended, mineral material sales under the Materials Act of 1947, or mineral leasing under the Mineral Leasing Act of 1920, for the protection of public lands in Washoe County:

Mount Diablo Meridian

T. 20 N., R. 18 E.,

Sec. 2, lots 1 to 4, inclusive, S½N½ (that portion north of the south boundary of R/W Nev-042776 for U.S. Highway 395).

T. 21 N., R. 18 E.,

Sec. 4, lots 1 to 4, inclusive, S½NW¼, and SW¼;

Sec. 6, lots 11 to 14, inclusive;

Sec. 7, lots 9 to 12, inclusive; secs. 8 and 10;

Sec. 12, N½, NW¼SW¼, S½SW¼, and SW¼SE¼;

Sec. 14;

Sec. 18, lots 9 to 12, inclusive;

Sec. 22;

Sec. 26, lots 1 and 2, W½NW¼NE¼, NW¼, N½SW¼, and W½SE¼;

Sec. 27, W½NE¼, N½NW¼, and SE¼NW¼;

Sec. 34, NE¼, E½NW¼, E½W½NW¼, SW¼SW¼NW¼, N½N½SW¼, and N½SE¼, (those portions north of the south boundary of R/W Nev-042776 for U.S. Highway 395).

T. 22 N., R. 18 E.,

Sec. 1, lots 1 to 4, inclusive, S½N½, and S½;

Sec. 2, lots 1 to 4, inclusive, S½N½, and S½;

Sec. 3, lots 1 to 4, inclusive, S½N½, and S½;

Sec. 4, lots 5 to 20, inclusive;

Sec. 5, lots 5 to 8, inclusive, S½N½, and S½;

Sec. 6, lots 3 to 6, inclusive;

Sec. 8, lots 1 to 12, inclusive, and SW¼;

Sec. 9 to 11, inclusive;

Sec. 12, W½;

Sec. 13, W½;

Sec. 14, lots 1 to 8, inclusive, and W½;

Secs. 15, 16, and 17;

Sec. 18, lots 1 to 4, inclusive;

Sec. 20, lots 1 to 8, inclusive, and S½;

Sec. 21;

Sec. 22, lots 1 to 4, inclusive, NE¼, and S½;

Sec. 23;

Sec. 24, lots 1 to 4, inclusive, and SW¼;

Sec. 25, W½;

Secs. 26 to 29, inclusive;

Sec. 30, lots 1 to 4, inclusive;

Sec. 31, lots 3 to 7, inclusive;

Sec. 32, lots 1 to 6, inclusive, E½, E½NW¼, NE¼SW¼, and S½SW¼;

Sec. 33;

Sec. 34, lots 1 to 8, inclusive, and N½;

Sec. 35;

Sec. 36, lots 1 to 8, inclusive.

T. 23 N., R. 18 E.,

Sec. 7, lots 2, 3, and 4;

Sec. 8, lots 2 to 7, inclusive, SW¼NE¼, SE¼NW¼, NE¼SW¼, and N½SE¼;

Sec. 9, lots 1 to 4, inclusive;

Sec. 12, lots 1 to 4, inclusive, S½NE¼, SE¼NW¼, and E½SW¼;

Sec. 13, lots 1 to 10, inclusive, E½NW¼, and SW¼SW¼;

Sec. 16, lots 1 to 10, inclusive, and E½SE¼;

Sec. 17;

Sec. 18, lots 1 to 4, inclusive;

Sec. 19, lots 1 to 4, inclusive;

Sec. 20;

Sec. 21, lots 1 to 10, inclusive, and NE¼NE¼;

Sec. 22, SE¼SW¼ and SE¼;

Sec. 24, lots 1 to 6, inclusive, W½NW¼, N½SW¼, SE¼SW¼, and SE¼;

Sec. 25;

Sec. 26, lots 1 to 4, and SE¼NE¼;

Sec. 27, NE¼, E½NW¼, and S½;

Sec. 28, lots 1 to 12, inclusive, W½NE¼, and SE¼NE¼;

Sec. 29;

Sec. 30, lots 1 to 4, inclusive;

Sec. 31, lots 1 to 4, inclusive;

Sec. 32, lots 1 to 4, inclusive, N½, and N½S½;

Sec. 33, lots 1 to 12, inclusive, and SE¼;

Sec. 34, lots 1 to 7, N½, and SW¼SE¼;

Sec. 35, lots 1 to 6, inclusive, and NE¼;

Sec. 36, lots 1 to 8, inclusive, and N½.

T. 17 N., R. 19 E.,

Sec. 12, lots 1 and 2, NE¼, E½NW¼, S½SW¼, and N½SE¼.

T. 20 N., R. 19 E.,

Sec. 1, W½ lot 1 in NE¼, lot 2 in NE¼, lots 1 and 2 in NW¼;

Sec. 2, lots 1 and 2 in NE¼, lots 1 and 2 in NW¼, and S½;

Sec. 4, S½SW¼;

Sec. 10, NW¼NE¼ and N½NW¼;

Sec. 12.

T. 21 N., R. 19 E.,

Sec. 1, lots 1 to 4, inclusive, S½N½, and S½;

Sec. 2, lots 1 to 4, inclusive, S½N½, and S½;

Sec. 8, N½NE¼, SE¼NE¼, and E½SE¼;

Sec. 10;

Sec. 11, SW¼NE¼, W½NW¼, NE¼SW¼, and W½SE¼;

Secs. 12 and 13;

Sec. 14, N½;

Sec. 16, N½ and SE¼;

Sec. 22, SW¼;

Sec. 24, SE¼NW¼ and SW¼;

Sec. 25;

Sec. 26, E½NE¼ and NE¼SE¼;

Sec. 28, NE¼, N½SE¼, and SE¼SE¼;

Sec. 36.

T. 22 N., R. 19 E.,

Sec. 1, lots 3 to 11, inclusive, SE¼NW¼, and NE¼SW¼;

Sec. 2, lots 1 to 4, inclusive, S½N½, and S½;

Sec. 3, lots 2, 3, and 4;

Sec. 4, lots 1 to 11, inclusive, S½NW¼, N½SW¼, and NW¼SE¼;

Sec. 5, lots 1 to 4, inclusive, S½N½, and S½;

Sec. 6, lots 1 to 7, inclusive, S½NE¼, SE¼NW¼, E½SW¼, and SE¼;

Sec. 9, lots 1 to 4, inclusive, E½, and E½W½;

Secs. 10 and 12;

Sec. 14, SE¼SW¼;

Sec. 15, W½;

Sec. 16, lots 1 to 4, inclusive, E½, and E½W½;

Secs. 22 and 24;

Sec. 26, NE¼, NE¼NW¼, N½SE¼, and SW¼SE¼;

Sec. 36.

T. 23 N., R. 19 E.,

Sec. 1, S½;

Sec. 2, S½;

Sec. 3, S½;

Sec. 4, S½;

Sec. 5, S½;

Sec. 6, lots 6 and 7, E½SW¼, and SE¼;

Sec. 7, lots 1 to 4, inclusive, E½, and E½W½;

Secs. 8 to 17, inclusive;

Sec. 18, lots 1 to 4, inclusive, E½, and E½W½;

Sec. 19, lots 1 to 4, inclusive, E½, and E½W½;

Secs. 20 to 29, inclusive;

Sec. 30, lots 1 to 4, inclusive, E½, and E½W½;

Sec. 31, lots 1 to 7, inclusive, NE¼, E½NW¼, NE¼SW¼, and N½SE¼;

Sec. 32, lots 1 to 4, inclusive, N½, and N½S½;

Sec. 33, lots 1 to 4, inclusive, N½, and N½S½;

Sec. 34, lots 1 to 4, inclusive, N½, and N½S½;

Sec. 35, N½;

Sec. 36, lots 1 to 7, inclusive, W½NE¼, NW¼, N½SW¼, and NW¼SE¼.

T. 16 N., R. 20 E.,

Sec. 1, lot 3, lot 2 in NE¼, lots 1 and 2 in NW¼, and SW¼NE¼;

Sec. 2, lots 1 and 2 in the NE¼, lots 1 and 2 in NW¼, N½S½, and S½SW¼;

Sec. 3, lots 1 and 2 in NE¼, lots 1 and 2 in NW¼, and S½;

Sec. 4, lots 1 and 2 in NE¼, and S½;

Secs. 9 and 10;

Sec. 11, Excepting therefrom the following:

(a) That portion conveyed to Western Union Telegraph Company.

(b) That portion conveyed to the State of Nevada.

(c) That portion conveyed to KMBJ, Inc.

(d) That portion described in the deed to AT&T Communications of Nevada;

Sec. 14, irregular Washoe County portion within W½W½;

Sec. 15;

Sec. 16, SE¼SE¼;

Sec. 20, E½, E½SW¼, and SW¼SW¼;

Sec. 30, lot 1 in NW¼, S½ of lot 2 in NW¼, lots 1 and 2 in SW¼, and E½.

T. 17 N., R. 20 E.,

Sec. 1, lot 2 in NE¼, lot 2 in NW¼, and SW¼SE¼;

Sec. 2, E½ of lot 1 in NE¼, lot 2 in NE¼, W½ of lot 1 in NW¼, lot 2 in NW¼, SW¼, and W½SE¼;

Sec. 8, E½, SE¼NW¼, NE¼SW¼, and S½SW¼;

Sec. 9, S½;

Sec. 10, W½NE¼, SE¼NE¼, W½, and SE¼;

Sec. 11;

Sec. 12, E½, S½NW¼, and SW¼;

Secs. 13 to 16, inclusive;

Sec. 17, E½, NW¼, W½SW¼, and SE¼SW¼;

Sec. 18, E½E½, E½NE¼SW¼, NE¼SE¼SW¼, E½NE¼NW¼SE¼, E½NW¼NW¼SE¼, S½NW¼SE¼, NE¼SW¼SE¼, and S½SW¼SE¼;

Sec. 20, lots 1 and 2, N½, N½S½, SW¼SW¼, and SE¼SE¼;

Secs. 21 to 26, inclusive;

Sec. 28;

Sec. 29, lots 1, 2, and 3, S½N½, and S½;

Sec. 30, N½ of lot 1 in SW¼ and E½;

Sec. 32, N½N½, SE¼NE¼, SW¼NW¼, and E½SE¼;

Sec. 33;

Sec. 34, lots 1 and 2, N½, SW¼, and W½SE¼;

Sec. 35, lots 1 and 2, N½, E½SW¼, and SE¼;

Sec. 36, lots 1 to 16, inclusive.

T. 18 N., R. 20 E.,

Sec. 4, lots 5 and 6, inclusive;

Sec. 26, SW¼SW¼;

Sec. 28, SW¼SW¼;

Sec. 33, NE¼NW¼;

Sec. 34, E½NW¼SE¼NE¼, S½SE¼NE¼, E½NW¼SW¼NW¼, W½SE¼SW¼NW¼, NW¼NW¼SW¼, S½NW¼SW¼, SW¼SW¼, N½N½NE¼SE¼, N½SW¼NE¼SE¼, S½SE¼NE¼SE¼, W½SW¼SW¼SE¼, W½SE¼SW¼SW¼SE¼, E½E½SE¼SW¼SE¼, NE¼NE¼SE¼SE¼, W½SE¼SE¼, and S½SE¼SE¼SE¼.

T. 19 N., R. 20 E.,

Sec. 12, SE¼SW¼ and SW¼SE¼;

Sec. 14, SE¼NE¼ and SE¼;

Sec. 32, SE¼NE¼, S½S½NE¼SE¼, and S½SE¼;

Sec. 34, W½NW¼NW¼NE¼NE¼, S½NW¼NE¼NE¼, W½SW¼NE¼NE¼, SE¼NE¼NE¼, E½NE¼NE¼NW¼NE¼, SE¼NE¼NW¼NE¼, W½NE¼NW¼NE¼, E½NW¼NW¼NE¼, S½NW¼NE¼, NE¼NE¼SW¼NE¼, E½NW¼NE¼SW¼NE¼, S½NE¼SW¼NE¼, W½NE¼NW¼SW¼NE¼, W½NW¼SW¼NE¼, SE¼NW¼SW¼NE¼, W½NE¼SW¼SW¼NE¼, W½SW¼SW¼NE¼, SE¼SW¼SW¼NE¼, SE¼SW¼NE¼, E½SE¼NE¼, E½W½SE¼NE¼, N½NW¼, NE¼SE¼NW¼, W½NW¼SE¼NW¼, NE¼SW¼, E½SE¼, NW¼SE¼, and W½SW¼SE¼.

T. 20 N., R. 20 E.,

Sec. 5, lots 1 to 4, inclusive, S½N½, and S½;

Sec. 6, lots 2, 3, and lots 8 to 11, inclusive, SE¼NW¼, E½SW¼, and S½SE¼;

Sec. 7, lots 1, 2, and lots 5 to 9, inclusive, W½NE¼, E½NW¼, NE¼SW¼, and N½SE¼SW¼;

Sec. 9, SW¼;

Sec. 14, lots 14, 18, 22, lots 43 to 50, inclusive, lots 53 to 54, inclusive, lot 58, lots 62 to 69, inclusive, lots 71 to 73, inclusive, lots 75 to 90, inclusive,W½NE¼SW¼NE¼, and W½SW¼NE¼;

Sec. 16, N½NE¼, SW¼NE¼, W½, and NW¼SE¼;

Sec. 20, S½NE¼, E½SW¼, and SE¼;

Sec. 21, lots 3 and 4, and NW¼SW¼;

Sec. 28, lots 15, 16, lots 21 to 24, inclusive, lots 26, 29, and lots 31 to 41, inclusive, SW¼NE¼, SW¼NW¼, and SE¼;

Sec. 29, lots 9 to 15, inclusive, N½NE¼, SE¼NE¼, NE¼SE¼, SW¼SE¼, and all unpatented mining claims.

T. 21 N., R. 20 E.,

Sec. 2, lots 3 to 7, inclusive, SE¼NW¼, and E½SW¼;

Sec. 3, lots 1 to 4, inclusive, S½N½, and S½;

Sec. 5, lot 1, SE¼NE¼, and SE¼;

Sec. 6, lots 1 to 7, inclusive, SW¼NE¼, SE¼NW¼, E½SW¼, and W½SE¼;

Sec. 7, lots 1 to 4, inclusive, E½NW¼, and E½SW¼;

Sec. 8, E½;

Sec. 10, lots 1 to 4, inclusive, W½E½, and W½;

Sec. 15, lots 3, 4, and 5, W½NE¼, E½SE¼NW¼, and NE¼SW¼;

Sec. 17, NE¼ and S½;

Sec. 18, lots 1 to 4, inclusive, E½W½, and S½SE¼;

Sec. 19, lots 1 to 4, inclusive, E½, and E½W½;

Sec. 20;

Sec. 22, lots 2 to 11, inclusive, SE¼NW¼, and NE¼SW¼;

Secs. 28 and 29;

Sec. 30, lots 1 to 4, inclusive, E½, and E½W½;

Sec. 31, lots 1 to 5, inclusive, E½, E½NW¼, and NE¼SW¼;

Sec. 32.

T. 22 N., R. 20 E.,

Sec. 3, lots 3 to 7, inclusive, SE¼NW¼, and E½SW¼;

Sec. 4, lots 1 to 4, inclusive, S½N½, and S½;

Sec. 5, lots 1 to 4, inclusive, S½N½, and S½;

Sec. 6, lots 1 to 7, inclusive, S½NE¼, SE¼NW¼, E½SW¼, and SE¼;

Sec. 7, lots 1 to 4, inclusive, E½, and E½W½;

Secs. 8 and 9;

Sec. 10, lots 1 to 4, inclusive, lots 8 and 9, SE¼NW¼, and NE¼SW¼;

Sec. 15, W½;

Secs. 16 and 17;

Sec. 18, lots 1 to 4, inclusive, E½, and E½W½;

Sec. 19, lots 1 to 4, inclusive, E½, and E½W½;

Secs. 20, 21, and 22;

Sec. 23, lots 1 to 7, inclusive, SW¼NE¼, S½NW¼, SW¼, and W½SE¼;

Sec. 26, lots 1 to 4, inclusive, W½E½, and W½;

Sec. 27, lots 2 to 4, inclusive, N½, SW¼, N½SE¼, and all unpatented mining claims;

Secs. 28 and 29;

Sec. 30, lots 1 to 4, inclusive, E½, and E½W½;

Sec. 31, lots 1 to 4, inclusive, E½, and E½W½;

Secs. 33 and 34;

Sec. 35, lots 5 to 7, inclusive, lots 9, 11, 12, and 13, W½E½, N½NW¼, and all unpatented mining claims.

T. 23 N., R. 20 E.,

Sec. 7, S½, unsurveyed;

Sec. 8, S½;

Sec. 9, S½, partly unsurveyed;

Sec. 10, S½;

Sec. 11, N½SW¼, SW¼SW¼, and E½SE¼;

Sec. 12, S½;

Sec. 14, S½NW¼ and N½SW¼;

Sec. 15, S½NE¼, W½NE¼NW¼, NW¼NW¼, S½NW¼, SW¼, N½SE¼, and SW¼SE¼;

Secs. 16 to 21, inclusive, unsurveyed;

Sec. 22, lots 2, 3, and lots 5 to 11, inclusive, and SW¼SW¼;

Sec. 27, lots 1 to 7, inclusive, W½NE¼, NW¼, N½SW¼, and NW¼SE¼;

Secs. 28, 29, and 30, unsurveyed;

Sec. 31, lots 1 to 4, inclusive, E½, and E½W½;

Sec. 32;

Sec. 33, lots 1 and 2, W½NE¼, W½, and SE¼;

Sec. 34.

T. 17 N., R. 21 E.,

Sec. 7, lots 1 to 4, inclusive, E½W½;

Sec. 18, lots 1 to 4, inclusive, E½, and E½W½;

T. 19 N., R. 21 E.,

Sec. 6, lots 1 to 6, inclusive, S½NE¼, and SE¼;

Sec. 8, lots 1 to 4, inclusive, N½, and N½S½;

Sec. 10, N½, N½SW¼, E½NE¼SW¼SW¼, SE¼SW¼SW¼SW¼, SE¼SW¼SW¼, SE¼SW¼, and NW¼SE¼;

Sec. 16, NE¼, N½NW¼, and SE¼NW¼;

Sec. 18, lot 1 and N½NE¼.

T. 20 N., R. 21 E.,

Sec. 2, lots 1 to 4, inclusive, S½N½, and S½;

Sec. 4, lots 1 to 4, inclusive, S½N½, and S½;

Secs. 8, 10, and secs. 12 to 16, inclusive;

Sec. 18, lots 1 to 4, inclusive, N½NE¼, SW¼NE¼, W½SE¼, and SE¼SE¼;

Sec. 19, lots 1 to 4, inclusive, E½;

Secs. 20 to 29, inclusive;

Sec. 30, lots 1 to 4, inclusive, and E½;

Sec. 31, lots 1 to 4, inclusive, and E½;

Sec. 32;

Sec. 33, N½;

Sec. 34;

Sec. 35, N½N½ and SE¼NE¼;

Sec. 36, lots 1, 4, and 5, N½, N½SW¼, and NW¼SE¼.

T. 21 N., R. 21 E.,

Sec. 36.

T. 22 N., R. 21 E.,

Sec. 7, lot 5.

T. 23 N., R. 21 E.,

Sec. 7, lots 3 and 4, E½SW¼, and SE¼;

Sec. 8, N½SW¼, SE¼SW¼, and SE¼;

Sec. 9, N½SE¼ and SW¼;

Sec. 10, NW¼SW¼;

T. 20 N., R. 22 E.,

Sec. 2, lots 1 to 4, inclusive, S½N½, and S½;

Sec. 4, lots 1 to 4, inclusive, S½N½, and S½;

Sec. 6, lots 1 to 7, inclusive, S½NE¼, SE¼NW¼, E½SW¼, and SE¼;

Sec. 8, 10, 12, 14, and 16;

Sec. 18, lots 1 to 4, inclusive, E½, and E½W½;

Sec. 19, lots 1 to 4, inclusive, E½, and E½W½;

Secs. 20 and 22;

Sec. 24, irregular Washoe County portion within W½;

Sec. 26, N½ and N½S½;

Sec. 30, lots 1 to 4, inclusive, NE¼, and E½W½.

T. 21 N., R. 22 E.,

Secs. 32, 34, and 36;

T. 20 N., R. 23 E.,

Sec. 6, lots 1 to 7, inclusive, S½NE¼, SE¼NW¼, E½SW¼, and SE¼; sec. 8;

Sec. 18, lots 1 to 7, inclusive, NE¼, E½NW¼, NE¼SW¼, and N½SE¼;

Sec. 20, N½N½, irregular Washoe County portion within SE¼NW¼.

The areas described aggregate 167,137.69 acres in Washoe County.

2. Subject to valid existing rights, the reserved Federal mineral interest in the following described lands is hereby withdrawn from the United States mining laws (30 U.S.C. Ch. 2 (1994)), but not from mineral material sales under the Materials Act of 1947 or mineral leasing under the Mineral Leasing Act of 1920, for the protection of lands in Washoe County:

Mount Diablo Meridian

T. 22 N., R. 18 E.,

Sec. 12, E½;

Sec. 24, E½;

Sec. 36, E½.

T. 23 N., R. 18 E.,

Sec. 15, NE¼, E½NW¼, and SE¼;

Sec. 16, W½NE¼ and SE¼NE¼;

Sec. 22, NE¼, SE¼NW¼, and NE¼SW¼;

T. 20 N., R. 19 E.,

Sec. 25, lots 1 to 7, inclusive, and lot 11, SW¼NE¼, SE¼NW¼, NE¼SW¼, and NW¼SE¼, (those portions north of the south boundary of R/W Nev-042776 for U.S. Highway 395).

T. 21 N., R. 19 E.,

Sec. 4, lots 1 to 4, inclusive, S½N½, and S½;

Sec. 6, lots 1 to 7, S½NE¼, SE¼NW¼, E½SW¼, and SE¼.

T. 22 N., R. 19 E.,

Sec. 8;

Sec. 13, SW¼NE¼;

Sec. 14, E½, NW¼, N½SW¼, and SW¼SW¼;

Sec. 18, lots 1 to 4, E½, and E½W½;

Sec. 20;

Sec. 26, W½NW¼, SE¼NW¼, SW¼, and SE¼SE¼;

Sec. 28;

Sec. 30, lots 1 to 4, E½, and E½W½;

Sec. 31, lots 3 and 4, E½SW¼, and SE¼;

Secs. 32 and 34.

T. 17 N., R. 20 E.,

Sec. 18, lots 3 to 11, inclusive, W½NE¼SW¼, W½SE¼SW¼, SE¼SE¼SW¼, W½NE¼NW¼SE¼, W½NW¼NW¼SE¼, and NW¼SW¼SE¼.

T. 18 N., R 20 E.,

Sec. 4, lots 3 and 4;

Sec. 34, NE¼SE¼NE¼, W½NW¼SE¼NE¼, NE¼SW¼NW¼, W½NW¼SW¼NW¼, SW¼SW¼NW¼, E½SE¼SW¼NW¼, E½SW¼, NE¼NW¼SW¼, S½N½NE¼SE¼, S½SW¼NE¼SE¼, N½SE¼NE¼SE¼, N½SW¼SE¼, NE¼SW¼SW¼SE¼, E½SE¼SW¼SW¼SE¼, W½SE¼SW¼SE¼, W½E½SE¼SW¼SE¼, NW¼NE¼SE¼SE¼, S½NE¼SE¼SE¼, and N½SE¼SE¼SE¼.

T. 19 N., R. 20 E.,

Sec. 2, SE¼SE¼;

Sec. 11, SW¼NE¼;

Sec. 26, W½E½, and W½;

Sec. 32, W½NE¼;

Sec. 34, NE¼NE¼NE¼, NE¼NW¼NE¼NE¼, E½NW¼NW¼NE¼NE¼, E½SW¼NE¼NE¼, W½NE¼NE¼NW¼NE¼, W½NW¼NW¼NE¼, W½NW¼NE¼SW¼NE¼, E½NE¼NW¼SW¼NE¼, E½NE¼SW¼SW¼NE¼, W½W½SE¼NE¼, E½NW¼SE¼NW¼, SW¼SE¼NW¼, and E½SW¼SE¼.

T. 20 N., R. 20 E.,

Sec. 14, lots 1, 2, and 3, and SW¼NE¼;

Sec. 26, SW¼SE¼SW¼ and W½SE¼SE¼SW¼;

Sec. 28, E½SE¼SW¼NE¼NW¼, and W½SW¼SE¼NE¼NW¼;

Sec. 29, lot 8, NW¼SW¼, and SE¼SW¼;

Sec. 30, W½NE¼SE¼, and N½SW¼SE¼, SW¼SW¼SE¼, and W½SE¼SW¼SE¼.

T. 21 N., R. 20 E.,

Sec. 1, lots 5, 6, and 7, inclusive, and lots 10 to 22, inclusive;

Sec. 2, lot 2, lots 8 to 46, inclusive, SW¼NE¼, NW¼NE¼SE¼, S½NE¼SE¼, W½SE, and N½SE¼SE¼;

Sec. 12, lots 3 to 12, inclusive, and SW¼;

Sec. 13, lots 1 and 4.

T. 22 N., R. 20 E.,

Sec. 10, lots 5, 6, and 7, NE¼, and NW¼SE¼;

Sec. 14, lots 5, 6, and 7;

Sec. 24, W½W½;

Sec. 36, S½SE¼.

T. 23 N., R. 20 E.,

Sec. 11, SE¼SW¼ and W½SE¼;

Sec. 14, W½E½ and N½NW¼;

Sec. 15, N½NE¼ and E½NE¼NW¼;

T. 19 N., R. 21 E.,

Sec. 10, W½NE¼SW¼SW¼, NW¼SW¼SW¼, N½SW¼SW¼SW¼, and SW¼SW¼SW¼SW¼.

T. 21 N., R. 21 E.,

Sec. 8, SE¼SW¼NE¼, S½SE¼NE¼, and S½;

Sec. 18, lots 1 and 2, S½NE¼NE¼, and SE¼NE¼;

Sec. 20, NE¼NW¼ and SW¼NW¼.

T. 23 N., R. 21 E.,

Sec. 8, SW¼SW¼;

Sec. 17, W½NW¼ and SW¼;

Sec. 18, lot 1, E½E½, NW¼NE¼, and NE¼NW¼;

Sec. 19, lots 3 and 4, E½E½, SW¼NE¼, SE¼NW¼, E½SW¼, and SE¼;

Sec. 20, W½;

Sec. 29, NW¼.

T. 22 N., R. 22 E.,

Sec. 4, lots 1 to 4, S½N½, and S½.

The areas described aggregate 15,813.12 acres in Washoe County.

3. In addition to paragraphs 1 and 2, if any of the non-Federal lands in Washoe County within the areas described below are acquired by the United States in the future by exchange, donation, or purchase, those lands will be included in the withdrawal:

T. 21 N., R. 18 E., (on north and east side of U.S. Highway 395).

T. 22 N., R. 18 E.

T. 23 N., R. 18 E., excepting secs. 1 to 5, inclusive, and the N½N½ of secs. 9 to 12, inclusive.

T. 20 N., R. 19 E., (on north and east side of U.S. Highway 395).

T. 21 N., R. 19 E.

T. 22 N., R. 19 E.

T. 23 N., R. 19 E., excepting sec. 4.

T. 16 N., R. 20 E.

T. 17 N., R. 20 E., (on east side of U.S. Highway 395).

T. 18 N., R. 20 E., (on east side of U.S. Highway 395).

T. 19 N., R. 20 E., (on east side of U.S. Highway 395).

T. 20 N., R. 20 E.

T. 21 N., R. 20 E.

T. 22 N., R. 20 E.

T. 23 N., R. 20 E., excepting secs. 2, 4 and 12.

T. 17 N., R. 21 E.

T. 19 N., R. 21 E.

T. 20 N., R. 21 E.

T. 21 N., R. 21 E.

T. 22 N., R. 21 E.

T. 23 N., R. 21 E., secs.18, 19, and secs. 30, 31, and 32.

T. 20 N., R. 22 E.

T. 21 N., R. 22 E.

T. 22 N., R. 22 E.

T. 23 N., R. 22 E., (outside the boundaries of the Pyramid Lake Indian Reservation).

T. 20 N., R. 23 E., secs. 5, 7, 17, 19 and 20.

T. 21 N., R. 23 E., sec. 31.

4. The withdrawal made by this order does not alter the applicability of those public land laws governing the use of the land under lease, license, or permit, or governing the disposal of the mineral or vegetative resources other than under the mining laws.

5. This withdrawal will expire 20 years from the effective date of this order, unless, as a result of a review conducted before the expiration date pursuant to Section 204(f) of the Federal Land Policy and Management Act of 1976, 43 U.S.C. 1714(f) (1994), the Secretary determines that the withdrawal shall be extended.

Dated: July 5, 2001.
Gale A. Norton,
Secretary of the Interior.

[FR Doc. 01-17494 Filed 7-11-01; 8:45 am]

BILLING CODE 4310-HC-P